DEPARTMENT OF THE TREASURY

Department of the Treasury.

Privacy Act of 1974; System of Records

ACTION: Notice of modified systems of records.

SUMMARY: In accordance with the Privacy Act of 1974, the Department of the Treasury (“Treasury” or the “Department”), proposes to modify 10 of its systems of records notices below by adding one new routine use to all 10 systems.

DATES: Submit comments on or before May 22, 2024. The new routine use will be applicable on May 22, 2024 unless Treasury receives comments and determines that changes to the system of records notice are necessary.

ADDRESSES: Comments may be submitted to the Federal eRulemaking Portal electronically at https://www.regulations.gov identified by docket number TREAS-DO-2024-0007. Comments can also be sent to the Deputy Assistant Secretary for Privacy, Transparency, and Records, Department of the Treasury, 1500 Pennsylvania Avenue NW, Washington, DC 20220, Attention: Modified Privacy Act Systems of Records. All comments received, including attachments and other supporting documents, are part of the public record and subject to public disclosure. All comments received will be posted without change to http://www.regulations.gov, including any personal information provided. You should submit only information that you wish to make publicly available.

FOR FURTHER INFORMATION CONTACT: For general questions and for privacy issues please contact: Ryan Law, Deputy Assistant Secretary for Privacy, Transparency, and Records (202-622-5710), Department of the Treasury, 1500 Pennsylvania Avenue NW, Washington, DC 20220.

SUPPLEMENTARY INFORMATION:

In accordance with the Privacy Act of 1974, 5 U.S.C. 552a, the Department of the Treasury proposes to modify the Treasury systems of records notices, as identified below, to include one new routine use permitting disclosure to the United States Department of Justice for purposes of the National Law Enforcement Accountability Database (the “NLEAD”). On May 25, 2022, the President issued Executive Order 14074, Advancing Effective, Accountable Policing and Criminal Justice Practices to Enhance Public Trust and Public Safety (the “Executive Order”). Section 5 of the Executive Order directs the Attorney General to establish the National Law Enforcement Accountability Database as “a centralized repository of official records documenting instances of law enforcement officer misconduct as well as commendations and awards.” As required by the Executive Order, in developing the NLEAD, the Department of Justice regularly consulted with other federal law enforcement agencies, at both leadership and staff levels. This new routine use authorizes disclosure to the Department of Justice pursuant to the Executive Order.

Treasury has provided a report of this system of records to the House Committee on Oversight and Accountability, the Senate Committee on Homeland Security and Governmental Affairs, and OMB, pursuant to 5 U.S.C. 552a(r) and OMB Circular A-108, “Federal Agency Responsibilities for Review, Reporting, and Publication under the Privacy Act,” dated December 23, 2016.

Ryan Law,
Deputy Assistant Secretary for Privacy, Transparency, and Records.

The NLEAD routine use is being added to the following Treasury systems of records notices. The addition of this new routine use disclosure to each of the SORNs referenced below is consistent with the purpose(s) for which the information was collected because these SORNs already include a routine use for making similar disclosures directly to federal agencies upon request.

System name and number (security classification) | System location and system manager(S) | Routine use added will be numbered | History
DO .190, OIG Investigations Management Information System (Unclassified) | Departmental Offices—OIG, Assistant Inspector General for Investigations and Counsel to the Inspector General. Assistant Inspector General for Investigations | (11) | 81 FR 78298 (Nov. 7, 2016).
DO .301, TIGTA General Personnel and Payroll (Unclassified) | Departmental Offices—TIGTA (National Headquarter, field offices listed in Appendices A, B and C, Bureau of the Fiscal Service, and Transaction Processing Center, U.S. Department of Agriculture, National Finance Center.) General Personnel Records—Deputy Inspector General for Mission Support/Chief Financial Officer. Time-reporting records: (1) For Office of Audit employees—Deputy Inspector General for Audit; (2) For Office of Chief Counsel employees—Chief Counsel; (3) For Office of Investigations employees—Deputy Inspector General for Investigations; (4) For Office of Inspections and Evaluations employees—Deputy Inspector General for Inspections and Evaluations; (5) For Office of Information Technology employees—Chief Information Officer; (6) For Office of Mission Support/Chief Financial Officer employees—Deputy Inspector General for Mission Support/Chief Financial Officer; and (7) For Inspector General staff employees—Principal Deputy Inspector General | (25) | 87 FR 68797 (Nov. 16, 2022).
DO .307, TIGTA Employee Relations Matters, Appeals, Grievances, and Complaint Files (Unclassified) | Departmental Offices—TIGTA (Office of Mission Support/Chief Financial Officer) Deputy Inspector General for Mission Support/Chief Financial Officer | (14) | 87 FR 68797 (Nov. 16, 2022).
DO .311, TIGTA Office of Investigation Files (Unclassified) | Departmental Offices—TIGTA (Office of Investigation) Deputy Inspector General for Investigations, Office of Investigations | (15) | 87 FR 68797 (Nov. 16, 2022).
IRS 36.001, Appeals, Grievances and Complaint Records (Unclassified) | IRS (National Office, field, computer center, and campus offices). Chief, Office of Equal Employment and Diversity and Human Capital Officer | (12) | 80 FR 54063 (Sept. 8, 2015).
IRS 36.003, General Personnel and Payroll Records (unclassified) | IRS (Current employee personnel records: National Office, field, computing center and campus offices. Current employee payroll records: Transactional Processing Center (TPC), U.S. Department of Agriculture, National Finance Center. Former employee personnel records: The National Archives and Records Administration, National Personnel Records Center) Chief, Human Capital Office | (21) | 80 FR 54063 (Sept. 8, 2015).
IRS 90.002, Chief Counsel Litigation and Advice (Civil) Records (Unclassified) | IRS (Office of the Chief Counsel; Offices of the Associate Chief Counsel (Corporate), (Financial Institutions & Products), (General Legal Services), (Income Tax & Accounting), (International), (Passthroughs & Special Industries), and (Procedure & Administration); Office of the Division Counsel/Associate Chief Counsel (Tax Exempt & Government Entities); Offices of the Division Counsel (Large Business & International), (Small Business/Self Employed) and (Wage & Investment); Office of the Special Counsel to the National Taxpayer Advocate; Office of the Special Counsel to the Office of Professional Responsibility; and Area Counsel offices) The Chief Counsel, Special Counsel to the National Taxpayer Advocate, Special Counsel to the Office of Professional Responsibility, each Associate Chief Counsel, and each Division Counsel is the system manager of the system in that office | (23) | 80 FR 54063 (Sept. 8, 2015).
IRS 90.003, Chief Counsel Litigation and Advice (Criminal) Records (Unclassified) | IRS (Office of the Chief Counsel; Office of the Division Counsel/Associate Chief Counsel (Criminal Tax); and Area Counsel (Criminal Tax) offices) The Division Counsel/Associate Chief Counsel (Criminal Tax) is the system manager | (16) | 80 FR 54063 (Sept. 8, 2015).
Mint .012, Union Agency Negotiated Grievances; Adverse Personnel Actions; Discrimination Complaints, Complaints and Actions before Arbitrators, Administrative Tribunals and Courts (Unclassified) | U.S. Mint (United States Mint's Workforce Solutions Department, its Office of Chief Counsel, and any other office within the United States Mint where an action arose) (1) Chief, Human Resources Division, (2) Plant Manager(s), and (3) Officer-in-Charge | (9) | 78 FR 1307 (Jan. 8, 2013).
BEP .021, Investigative Files (Unclassified) | BEP (Office of Security, Bureau of Engraving and Printing, Eastern Currency Facility and Security Division, Bureau of Engraving and Printing, Western Currency Facility), Chief, Office of Security, Bureau of Engraving and Printing, Eastern Currency Facility, and Security Officer, Security Division, Bureau of Engraving and Printing, Western Currency Facility. | (10) | 78 FR 22604 (Apr. 16, 2013).

All of the Treasury's system of records referenced above are being modified to add the NLEAD routine use is as follows:

ROUTINE USES OF RECORDS MAINTAINED IN THE SYSTEM, INCLUDING CATEGORIES OF USERS AND THE PURPOSES OF SUCH USES:

( ) To disclose, to the extent permitted by law, official records documenting former or current Treasury law enforcement officers' commendations, awards, and misconduct to the Department of Justice (DOJ) as required pursuant to Executive Order 14074, Advancing Effective, Accountable Policing and Criminal Justice Practices to Enhance Public Trust and Public Safety, to provide a central source for federal, state, local, and tribal agencies to search when making suitability determinations during the recruitment, investigation, hiring, promotion, and retention of law enforcement personnel.

The new routine use number in each SORN is indicated in the second column of the chart above.

The remainder of Treasury's systems of records notices referenced above remain unchanged except for the addition of the NLEAD routine use identified above.

[FR Doc. 2024-08513 Filed 4-19-24; 8:45 am]

BILLING CODE 4810-AK-P